DEPARTMENT OF COMMERCE

[I.D. 081903A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northwest Region Logbook Family of Forms.

Form Number(s): None.

OMB Approval Number: 0648-0271.

Type of Request: Regular submission.

Burden Hours: 1,382.

Number of Respondents: 70.

Average Hours Per Response: 13 minutes a day for a catcher vessel Daily Fishing and Cumulative Production Log; 26 minutes a day for a catcher-processor Daily Fishing and Cumulative Production Log; 13 minutes a day for a mothership Daily Fish Received and Cumulative Production Log; 30 minutes a week for a Weekly/Daily Production Report; 20 minutes for a Product Transfer/Offload Log; 1.25 minutes for a Start/Stop Report; and 5 minutes for a notification of intent to offload donation fish.

Needs and Uses: This data collection would require the submission and preparation of logbooks and reports in the Pacific Coast Groundfish Fishery from processing vessels larger than 125 feet in length and from catcher vessels that deliver to them. The collection also includes a requirement that vessels intending to voluntarily donate fish caught in excess of trip limits to hunger relief organizations notify NOAA prior to offloading the fish and that the amount of donated fish be identified in the Product Transfer/Offloading Logbook. The information is necessary to monitor catch, effort, and production for fishery management purposes.

Affected Public: Business or other for-profit organizations; State, Local, or Tribal Government.

Frequency: On occasion, weekly, and quarterly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: August 14, 2003.
Gwellnar Banks,
Management Analyst, Office of the Chief Information Officer.

[FR Doc. 03-21607 Filed 8-22-03; 8:45 am]

BILLING CODE 3510-22-S